DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: June 16, 2016, 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1028th—Meeting, Regular Meeting
[June 16, 2016, 10:00 a.m.]
Item No. | Docket No. | Company
ADMINISTRATIVE
A-1 | AD16-1-000 | Agency Administrative Matters.
A-2 | AD16-7-000 | Customer Matters, Reliability, Security and Market Operations.
ELECTRIC
E-1 | RM16-1-000 | Reactive Power Requirements for Non-Synchronous Generation.
E-2 | RM15-24-000 | Settlement Intervals and Shortage Pricing in Markets Operated by Regional Transmission Organizations and Independent System Operators.
E-3 | RM16-15-000 | Regulations Implementing FAST Act Section 61003-Critical Electric Infrastructure Security and Amending Critical Energy Infrastructure Information.
E-4 | RM15-25-000 | Availability of Certain North American Electric Reliability Corporation Databases to the Commission.
E-5 | EL16-61-000 | Midcontinent Independent System Operator, Inc.
E-6 | EL16-48-000 | NextEra Energy Power Marketing, LLC and Northeast Energy Associates, a Limited Partnership v. ISO New England Inc.
E-7 | RM01-8-000 | Filing Requirements for Electric Utility Service Agreements.
| RM10-12-000 | Electricity Market Transparency Provisions of Section 220 of the Federal Power Act.
| RM12-3-000 | Revisions to Electric Quarterly Report Filing Process.
| ER02-2001-000 | Electric Quarterly Reports.
E-8 | EL16-55-000 | Interconnect Solar Development LLC.
| QF11-204-002
| QF11-205-002
E-9 | ER16-1443-000 | NRG Power Midwest, LP.
| EL16-72-000
E-10 | OA16-1-000 | Arizona Public Service Company.
E-11 | OMITTED
E-12 | ER12-2302-004 | Midwest Independent Transmission System Operator, Inc.
E-13 | ER16-644-000 | Entergy Arkansas, Inc.
E-14 | ER16-1041-000 | ISO New England Inc.
E-15 | ER15-2239-002 | NextEra Energy Transmission West, LLC.
E-16 | EL16-39-000 | Tri-State Generation and Transmission Association, Inc.
E-17 | EL14-94-001 | PJM Interconnection, L.L.C.
| ER16-1291-000 (Not Consolidated)
E-18 | OMITTED
E-19 | ER16-209-001 | Southwest Power Pool, Inc.
E-20 | ER15-623-006 | PJM Interconnection, L.L.C.
| ER15-623-007
| ER15-623-008
| EL15-29-004
| EL15-80-001 | Advanced Energy Management Alliance Coalition v. PJM Interconnection, L.L.C.
GAS
G-1 | RP12-479-001 | ANR Storage Company.
HYDRO
H-1 | P-12486-008 | Twin Lakes Canal Company.
H-2 | P-2082-027 | PacifiCorp.
H-3 | P-8722-018 | David O. Harde.
H-4 | P-2146-195 | Alabama Power Company.
CERTIFICATES
C-1 | CP15-552-000 | Northern Natural Gas Company.
C-2 | CP16-70-000 | Impulsora Pipeline, LLC.
C-3 | CP15-29-001 | Transcontinental Gas Pipe Line Company, LLC.
| CP15-482-001 | Sabine Pass Liquefaction, LLC and Sabine Pass LNG, L.P.
C-4 | CP14-509-003 | Paiute Pipeline Company.
| RP16-212-001

Dated: June 9, 2016.
Nathaniel J. Davis, Sr.,
Deputy Secretary.

A free webcast of this event is available through www.ferc.gov. Anyone with Internet access who desires to view this event can do so by navigating to www.ferc.gov's Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-14145 Filed 6-10-16; 4:15 pm]

BILLING CODE 6717-01-P